COMMODITY FUTURES TRADING COMMISSION

Sunshine Act Meetings

Time and Date: 2:30 p.m., Wednesday, March 8, 2006.

Place: 1155 21st St. NW., Washington, DC, 9th Floor Conference Room.

Status: Closed.

Matters to be Considered: Registered Futures Association Review.

FOR MORE INFORMATION CONTACT: Jean A. Webb, 202-418-5100.

Jean A. Webb,
Secretary of the Commission.

[FR Doc. 06-1874 Filed 2-23-06; 2:54 pm]

BILLING CODE 6351-01-M